DEPARTMENT OF AGRICULTURE

Forest Service

Notice of Proposed Fee Increase; Federal Lands Recreation Enhancement Act, (Title VIII, Pub. L. 108-447)

AGENCY: Chattahoochee-Oconee National Forest, USDA Forest Service.

ACTION: Notice of proposed fee increase.

SUMMARY: The Chattahoochee-Oconee National Forest is planning to increase fees from $8 per site per night to $10 per site per night for overnight camping at Dockery Lake Campground. The fee increase is only proposed and will be determined upon further analysis and public comment. This campground has eleven lake-side campsites, each with a parking spur, tent pad, fire ring, picnic table and lantern post. It also offers drinking water, toilets, picnic sites and a fishing pier. Visitor use monitoring on the Chattahoochee-Oconee National Forest has shown that people appreciate and enjoy the availability of quality outdoor camping facilities. Funds will be used to make improvements to the Dockery Lake Campground.

DATES: If approved, Dockery Lake Campground will increase fees in January 2010.

ADDRESSES: George Bain, Forest Supervisor, Chattahoochee-Oconee National Forest, 1755 Cleveland Highway, Gainesville, Georgia 30501.

FOR FURTHER INFORMATION CONTACT: Alison Koopman, Developed Recreation Program Manager, 770-297-3030. Information about proposed fee changes can also be found on the Chattahoochee-Oconee National Forest Web site: http://www.fs.fed.us/conf/.

SUPPLEMENTARY INFORMATION: The Federal Recreation Lands Enhancement Act (Title VII, Pub. L. 108-447) directed the Secretary of Agriculture to publish a six month advance notice in the Federal Register whenever new recreation fee areas are established. Once public involvement is complete, this new fee will be reviewed by a Recreation Resource Advisory Committee prior to a final decision and implementation.

Dated: April 13, 2009.
George Bain,
Forest Supervisor, Chattahoochee-Oconee National Forest.

[FR Doc. E9-9011 Filed 4-20-09; 8:45 am]

BILLING CODE 3410-11-M